DEPARTMENT OF DEFENSE

Office of the Secretary

[Docket ID: DoD-2023-OS-0042]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by January 22, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, (571) 344-1358, whs.mc-alex.esd.mbx.dd-dod-information-collections@mail.mil.

SUPPLEMENTARY INFORMATION:

Title; Associated Form; and OMB Number: Uniformed Services Employment and Reemployment Rights Act (USERRA) Inquiry and Support Request; DD Form 3021; OMB Control Number 0704-ERRA.

Type of Request: New.

Number of Respondents: 977.

Responses per Respondent: 1.

Annual Respondents: 977.

Average Burden per Response: 5 minutes.

Annual Burden Hours: 81.

Needs and Uses: This form is intended for those who are experiencing civilian employment problems related to military obligations and is needed to record information related to the mediation of disputes and answering of inquiries related to the USERRA; by tracking case assignments and mediation results of potential conflicts between employers and the National Guard, Reserves, or National Disaster Medical Service members they employ; and by reporting statistics related to the Employer Support of the Guard and Reserve (ESGR) Ombudsman Program in aggregate and at the state committee-level. These records are also used as a management tool for statistical analysis, tracking, reporting, evaluating program effectiveness and conducting research. Service members will request ESGR assistance as related to their rights and responsibilities pursuant to USERRA. Electronic form to be submitted through the www.ESGR.mil website, https://www.esgr.mil/USERRA/USERRA-Contact/USERRA-Support-Request/t/1.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan, 571-372-0493, whs.mc-alex.esd.mbx.dd-dod-information-collections@mail.mil.

Dated: December 15, 2023.
Aaron T. Siegel,
Alternate OSD Federal Register Liaison Officer, Department of Defense.

[FR Doc. 2023-28078 Filed 12-20-23; 8:45 am]

BILLING CODE 6001-FR-P